DEPARTMENT OF TRANSPORTATION

Federal Aviation Administration

14 CFR Part 71

[Docket No.FAA-2003-15124; Airspace Docket No. 03-ASO-5]

Amendment of Class E5 Airspace; Augusta, GA

AGENCY: Federal Aviation Administration (FAA), DOT.

ACTION: Final rule.

SUMMARY: This action amends Class E5 airspace at Augusta, GA. A Area Navigation (RNAV) Global Positioning system (GPS) Standard Instrument Approach Procedure (SIAP) has been developed to Augusta Regional Airport At Bush Field. Additionally, a modification has been made to the Augusta, GA, Class E5 airspace area to contain the Nondirectional Radio Beacon (NDB) Runway (RWY) 17 Standard Instrument Approach Procedure (SIAP) to Augusta Regional airport At Bush Field. Controlled airspace extending upward from 700 feet Above Ground Level (AGL) is needed to contain the SIAP's

DATES: 0901 UTC, September 4, 2003.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

On May 22, 2003, the FAA proposed to amend part 71 of the Federal Aviation Regulations (14 CFR part 71) by amending Class E5 airspace at Augusta, GA, (68 FR 27946). This action provides adequate Class E5 airspace for IFR operations at Augusta Regional Airport At Bush Field. Designations for Class E are published in FAA Order 7400.9K, dated August 30, 2002, and effective September 16, 2002, which is incorporated by reference in 14 CFR part 71.1. The Class E designations listed in this document will be published subsequently in the Order.

Interested parties were invited to participate in this rulemaking proceeding by submitting written comments on the proposal to the FAA. No comments objecting to the proposal were received.

The Rule

This amendment to part 71 of the Federal Aviation Regulations (14 CFR part 71) amends Class E5 airspace at Augusta, GA.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (30 does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR Part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 401113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 6005 Class E Areas Extending Upward From 700 Feet or More Above the Surface of the Earth

* * * * *

ASO GA E5 Augusta, GA [REVISED]

Augusta Regional At Bush Field Airport, GA

(Lat. 33°22′12″ N, long. 81°57′52″ W)

Bushe NDB

(Lat. 33°17′13″ N, long. 81°56′49″ W)

Emory NDB

(Lat. 33°27′46″ N long. 81°59′49″ W)

Daniel Field

(Lat. 33°27′59″ N, long. 82°02′22″ W)

Burke County Airport

(Lat. 33°02′27″ N, long. 82°00′14″ W)

Burke County NDB

(Lat. 33°02′33″ long. 82°00′ 17″)

Millen Airport

(Lat. 32°53′38″ N, long. 81°57′54″ W)

Millen NDB

(Lat. 32°53′41″ N, long. 81°58′ 01″ W)

That airspace extending upward from 700 feet above the surface within an 8.2-mile radius of Augusta Regional At Bush Field Airport, and within 8 miles west and 4 miles east of the 172° bearing from the Bushe NDB extending from the 8.2-mile radius to 16 miles south of Bushe NDB, and within 8 miles west and 4 miles east of the 349° bearing from the Emory NDB extending from the 8.2-mile radius to 16 miles north of Emory NDB, and within a 6.3-mile radius of Daniel Field, and within a 6.2-mile radius of Burke County Airport and within 3.5 miles each side of the 243° bearing from the Burke County NDB extending from the 6.2-mile radius to 7 miles southwest of the NDB, and within a 6.4-mile radius of Millen Airport and within 4 miles east and 8 miles west of the 357° bearing from the Millen NDB extending from the 6.4-mile radius to 16 miles north of the airport.

* * * * *

Issued in College Park, Georgia on July 7, 2003.
Walter R. Cochran,
Acting Manager, Air Traffic Division, Southern Region.

[FR Doc. 03-18073 Filed 7-16-03; 8:45 am]

BILLING CODE 4910-13-M